DEPARTMENT OF ENERGY

Federal Energy Regulatory Commission

Combined Notice of Filings #1

Take notice that the Commission received the following electric corporate filings:

Docket Numbers: EC19-50-000.

Applicants: Frontier Utilities Northeast LLC, NextEra Energy Services, LLC.

Description: Application for Authorization Under Section 203 of the Federal Power Act, et al. of Frontier Utilities Northeast LLC, et al.

Filed Date: 1/25/19.

Accession Number: 20190125-5181.

Comments Due: 5 p.m. ET 2/15/19.

Docket Numbers: EC19-51-000.

Applicants: Bloom Energy Corporation, Diamond State Generation Partners, LLC, Yellow Jacket Energy, LLC, 2014 ESA Project Company, LLC, 2015 ESA Project Company, LLC, Canada Pension Plan Investment Board.

Description: Application for Authorization Under Section 203 of the Federal Power Act, et al. of Bloom Energy Corporation, et al.

Filed Date: 1/28/19.

Accession Number: 20190128-5109.

Comments Due: 5 p.m. ET 2/19/19.

Take notice that the Commission received the following exempt wholesale generator filings:

Docket Numbers: EG19-52-000.

Applicants: Crystal Lake Wind Energy I, LLC.

Description: Notice of Self-Certification of Exempt Wholesale Generator Status of Crystal Lake Wind Energy I, LLC.

Filed Date: 1/28/19.

Accession Number: 20190128-5120.

Comments Due: 5 p.m. ET 2/19/19.

Docket Numbers: EG19-53-000.

Applicants: Crystal Lake Wind Energy II, LLC.

Description: Self-Certification of Self-Certification of Exempt Wholesale Generator Status of Crystal Lake Wind Energy II, LLC.

Filed Date: 1/28/19.

Accession Number: 20190128-5121.

Comments Due: 5 p.m. ET 2/19/19.

Take notice that the Commission received the following electric rate filings:

Docket Numbers: ER17-615-003; ER10-2184-027; ER10-2192-032; ER10-2178-032; ER11-2014-025; ER11-2013-025; ER13-1536-016; ER11-2005-025.

Applicants: Albany Green Energy, LLC, CER Generation, LLC, Constellation Energy Commodities Group Maine, LLC, Constellation NewEnergy, Inc., Cow Branch Wind Power, LLC, CR Clearing, LLC, Exelon Generation Company, LLC, Wind Capital Holdings, LLC.

Description: Supplement to December 22, 2017 Updated Market Power Analysis for the Southeast Region of the Exelon Southeast Entities.

Filed Date: 1/24/19.

Accession Number: 20190124-5212.

Comments Due: 5 p.m. ET 2/7/19.

Docket Numbers: ER17-2386-001.

Applicants: Great Bay Solar I, LLC.

Description: Report Filing: Refund Report (ER17-2386 and EL18-8) to be effective N/A.

Filed Date: 1/28/19.

Accession Number: 20190128-5137.

Comments Due: 5 p.m. ET 2/19/19.

Docket Numbers: ER18-1708-001.

Applicants: Copenhagen Wind Farm, LLC.

Description: Notice of Non-Material Change in Status of Copenhagen Wind Farm, LLC.

Filed Date: 1/24/19.

Accession Number: 20190124-5229.

Comments Due: 5 p.m. ET 2/14/19.

Docket Numbers: ER18-1954-002.

Applicants: Gulf Power Company.

Description: Compliance filing: Notice of Effective Date & Compliance Filing (NITSA/NOA) ER18-1954 to be effective 1/1/2019.

Filed Date: 1/25/19.

Accession Number: 20190125-5141.

Comments Due: 5 p.m. ET 2/15/19.

Docket Numbers: ER18-2352-002.

Applicants: Midcontinent Independent System Operator, Inc.

Description: Tariff Amendment: 2019-01-28_Amendment to Real-Time Buybacks of Spinning and Offline Supplemental to be effective 2/14/2019.

Filed Date: 1/28/19.

Accession Number: 20190128-5041.

Comments Due: 5 p.m. ET 2/19/19.

Docket Numbers: ER19-871-000.

Applicants: Southwestern Electric Power Company.

Description: § 205(d) Rate Filing: SWEPCO-ETEC Contracting Services Agreements (Monitor, Op, Dispatch) to be effective 1/1/2019.

Filed Date: 1/25/19.

Accession Number: 20190125-5113.

Comments Due: 5 p.m. ET 2/15/19.

Docket Numbers: ER19-872-000.

Applicants: Midcontinent Independent System Operator, Inc.

Description: § 205(d) Rate Filing: 2019-01-28_SA 1925 ITC Midwest-Interstate Power and Light 4th Rev DTIA to be effective 3/30/2019.

Filed Date: 1/28/19.

Accession Number: 20190128-5104.

Comments Due: 5 p.m. ET 2/19/19.

Docket Numbers: ER19-873-000.

Applicants: AEP Texas Inc.

Description: § 205(d) Rate Filing: AEPTX-Lighthouse EC-Golden Spread EC Interconnection Agreement to be effective 1/15/2019.

Filed Date: 1/28/19.

Accession Number: 20190128-5108.

Comments Due: 5 p.m. ET 2/19/19.

Docket Numbers: ER19-874-000.

Applicants: PJM Interconnection, L.L.C.

Description: § 205(d) Rate Filing: Original WMPA, SA No. 5260; Queue No. AD1-060 to be effective 1/2/2019.

Filed Date: 1/28/19.

Accession Number: 20190128-5119.

Comments Due: 5 p.m. ET 2/19/19.

Docket Numbers: ER19-875-000.

Applicants: Midcontinent Independent System Operator, Inc.

Description: § 205(d) Rate Filing: 2019-01-28_Cyber Security Coordination to be effective 3/30/2019.

Filed Date: 1/28/19.

Accession Number: 20190128-5135.

Comments Due: 5 p.m. ET 2/19/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 29, 2019.
Kimberly D. Bose,
Secretary.

[FR Doc. 2019-00973 Filed 2-4-19; 8:45 am]

BILLING CODE 6717-01-P